DEPARTMENT OF COMMERCE

National Oceanic and Atmospheric Administration

RIN: 0648-XM34

New England Fishery Management Council; Public Meeting

AGENCY: National Marine Fisheries Service (NMFS), National Oceanic and Atmospheric Administration (NOAA), Commerce.

ACTION: Notice of a public meeting.

SUMMARY: The New England Fishery Management Council (Council) is scheduling a public meeting of its Scallop Committee, in January, 2009, to consider actions affecting New England fisheries in the exclusive economic zone (EEZ). Recommendations from this group will be brought to the full Council for formal consideration and action, if appropriate.

DATES: This meeting will be held on Thursday, January 22, 2009 at 9 a.m.

ADDRESSES: This meeting will be held at the Crowne Plaza, 801 Greenwich Avenue, Warwick, RI 02886; telephone: (401) 732-6000; fax: (401) 732-0261

Council address: New England Fishery Management Council, 50 Water Street, Mill 2, Newburyport, MA 01950.

FOR FURTHER INFORMATION CONTACT: Paul J. Howard, Executive Director, New England Fishery Management Council; telephone: (978) 465-0492.

SUPPLEMENTARY INFORMATION: The committee will review and make final recommendations to the Council on the range of alternatives that should be analyzed under Scallop Amendment 15. The primary goal of Amendment 15 is to consider alternatives to comply with new requirements of the reauthorized Magnuson-Stevens Conservation and Management Act, specifically implementing annual catch limits. In addition, this action is considering alternatives to address excess capacity in the limited access scallop fishery. Alternatives are being considered that are designed to provide more flexibility for efficient use of the resourse such as permit stacking and leasing of days at sea and/or access area trips. Lastly, this action is considering a number of alternatives to adjust several aspects of the overall scallop management program such as revising the overfishing definition, specific adjustments to the general category management program, a specific alternative to address essential fish habitat (EFH) closures on Georges Bank, adjustments to the current scallop research set-aside program, and changing the scallop fishing year from March 1 to May 1.

Special Accommodations

This meeting is physically accessible to people with disabilities. Requests for sign language interpretation or other auxiliary aids should be directed to Paul J. Howard, Executive Director, at (978) 465-0492, at least 5 days prior to the meeting date.

Authority: 16 U.S.C. 1801 et seq.

Dated: December 17, 2008.
Tracey L. Thompson,
Acting Director, Office of Sustainable Fisheries, National Marine Fisheries Service.

[FR Doc. E8-30362 Filed 12-22-08; 8:45 am]

BILLING CODE 3510-22-S